DEPARTMENT OF DEFENSE

Department of the Air Force

Notice of Intent To Grant Exclusive Patent License

Pursuant to the provisions of Part 404 of Title 37, Code of Federal Regulations, which implements Public Law 96-517, the Department of the Air Force announces its intention to grant Intellisense Corporation, a company doing business in Wilmington, MA, exclusive licenses in any right, title and interest the Air Force has in U.S. Patent Numbers 6,028,689 entitled “Multi-Motion Mirror,” and 6,040,935 entitled “Flexureless Multi-Stable Micromirrors for Optical Switching.” The inventors of ’689, M. Adrian Michalicek, Victor M. Bright and John H. Comtois; and the inventor of ’935, M. Adrian Michalicek were government employees at the time of the respective inventions.

The licenses described above will be granted unless objection thereto, together with a request for an opportunity to be heard, if desired, are received in writing by the addressee set forth below within 60 days from the date of publication of this Notice. Information concerning the application may be obtained, on request, from the same addressee.

All communications concerning this Notice should be sent to Mr. Randy Heald, Associate General Counsel (Acquisition), SAF/GCQ, 1500 Wilson Blvd., Suite 304, Arlington, VA 22209-2310. Mr. Heald can be reached at 703-588-5091 or by fax at 703-588-8037.

Janet A. Long,
Air Force Federal Register Liaison Officer.

[FR Doc. 00-23623 Filed 9-13-00; 8:45 am]

BILLING CODE 5001-05-P